DEPARTMENT OF THE INTERIOR

National Park Service

[NPS-PWR-PWRO-0714-7930; 8381-1001-NZW]

Water Resources Management Plan/Environmental Impact Statement, Mojave National Preserve, San Bernardino County, CA

AGENCY: National Park Service, Interior.

ACTION: Notice of Extension of Scoping Period for Water Resources Management Plan/Environmental Impact Statement for Mojave National Preserve.

SUMMARY: Pursuant to § 102(2)(C) of the National Environmental Policy Act of 1969, the National Park Service is preparing a Water Resources Management Plan/Environmental Impact Statement (WRMP/EIS). This plan is intended to guide future management of ground and surface water sources within Mojave National Preserve. The original Notice of Intent to prepare an EIS (published in the Federal Register on May 11, 2011) announced a 60-day public comment period. In recognition of the complexity and scope of the forthcoming EIS, and with deference to interest from the public and interested organizations, the comment period has been extended.

DATES: Comments must be received by August 12, 2011.

SUPPLEMENTARY INFORMATION: It will not be necessary for individuals, orgnaizations, and agencies that have already commented to do so again. All comments must now be postmarked or transmitted not later than August 12, 2011. Those respondents who prefer to comment electronically may do so via the project Web site, http://parkplanning.nps.gov/mojave_water, or letters may be submitted via regular mail to: Stephanie Dubois, Superintendent, Mojave National Preserve, Attn: Mojave WRMP, 2701 Barstow Road, Barstow, California 92311. Up-to-date information may be obtained by contacting Mojave National Preserve at (760) 252-6100.

Before including your address, phone number, e-mail address, or other personal identifying information in your comment, you should be aware that your entire comment—including your personal identifying information—may be made publicly available at any time. While you can ask us in your comment to withhold your personal identifying information from public review, we cannot guarantee that we will be able to do so.

Dated: July 8, 2011.
Patricia L. Neubacher,
Acting Regional Director, Pacific West Region.

[FR Doc. 2011-20620 Filed 8-12-11; 8:45 am]

BILLING CODE 4310-6E-P